DEPARTMENT OF COMMERCE

National Oceanic and Atmospheric Administration

[I.D. 072903B]

Pacific Fishery Management Council; Public Meeting

AGENCY: National Marine Fisheries Service (NMFS), National Oceanic and Atmospheric Administration (NOAA), Commerce.

ACTION: Notice of a public meeting.

SUMMARY: The Pacific Fishery Management Council's (Council) Scientific and Statistical Committee (SSC) Marine Reserves Subcommittee will hold a work session, which is open to the public.

DATES: The work session will be Monday, August 18, 2003 from 10 a.m. to 5 p.m.; Tuesday, August 19, 2003 from 8 a.m to 5 p.m.; and Wednesday, August 20, 2003 from 8 a.m. until business for the day is completed.

ADDRESSES: The work session will be held at the Pacific Fishery Management Council, 7700 NE Ambassador Place, Suite 200, Portland, OR 97220; telephone: (503) 820-2280, toll free: (866) 806-7204.

FOR FURTHER INFORMATION CONTACT: Mr. Dan Waldeck, Pacific Fishery Management Council; telephone: (503) 820-2280, toll free: (866) 806-7204.

SUPPLEMENTARY INFORMATION: At this meeting, the SSC Marine Reserves Subcommittee will evaluate the implications of marine reserves for fishery management, taking into consideration (1) reserve objectives and (2) uncertainties associated with both reserves and traditional fishery management. Initial descriptions of SSC expectations of marine reserve proposals submitted to the Council in terms of “real world” considerations, including items (1) and (2) above, will also be discussed. The preliminary recommendations of the subcommittee will be reviewed by the SSC at the September 2003 Council meeting.

The proposed agenda is as follows:

1. Introductions

2. Discussion and Approval of Agenda

3. Interaction Between Reserves and Traditional Fishery Management

A. Reserves as an “insurance policy” against uncertainties/errors in traditional fishery management

B. Reserves as a source of fishery benefits

C. Reserves as a source of ecosystem benefits (e.g., enhance biodiversity, protect habitat)

D. Reserves as an opportunity to advance scientific knowledge (e.g., of ecological functions, environmental versus anthropomorphic influences)

4. SSC Expectations Regarding Marine Reserve Proposals

A. Defining the objective, including description of why status quo does not achieve the objective

B. Identifying variables that measure reserve effects

C. Providing a reasonable basis for reserve design/size/location

D. Developing data collections and analyses to monitor progress toward achieving the objective

E. Identifying full range of alternatives for meeting the objective

F. Analyzing alternatives

G. Other (including procedural requirements)?

5. Subcommittee Recommendations to the Council

6. Research and Data Needs (Time Permitting)

Although nonemergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Dated: July 29, 2003.
Richard W. Surdi,
Acting Director, Office of Sustainable Fisheries, National Marine Fisheries Service.

[FR Doc. 03-19701 Filed 8-1-03; 8:45 am]

BILLING CODE 3510-22-S